DEPARTMENT OF LABOR

Office of the Secretary

Submission for OMB Review: Comment Request

July 13, 2004.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: Bloodborne Pathogens Standard (29 CFR 1910.1030).

OMB Number: 1218-0180.

Frequency: On occasion; quarterly; and annually.

Type of Response: Recordkeeping and third party disclosure.

Affected Public: Business or other for-profit; Federal Government; and State, Local, or Tribal Government.

Number of Respondents: 630,021.

Number of Annual Responses: 23,586,234.

Estimated Time Per Response: Varies from 5 minutes to maintain records to 1.5 hours for employees to receive training or medical evaluations.

Total Burden Hours: 14,060,764.

Total Annualized Capital/Startup Costs: $0.

Total Annual Costs (operating/maintaining systems or purchasing services): $24,507,892.

Description: The information collection requirements contained in 29 CFR 1910.1030, the Bloodborne Pathogens Standard, serve to protect employees from infections resulting from occupational exposure to bloodborne pathogens. These infections can lead to serious illness which may result in death. The information generated in accordance with the Standard provides the employer and the employee with the means to provide protection from the adverse health effects associated with occupation exposure to bloodborne pathogens. OSHA compliance officers use some of the information to help determine if employers are providing employees the protection afforded by the Standard.

Ira L. Mills,
Departmental Clearance Officer.

[FR Doc. 04-20105 Filed 9-2-04; 8:45 am]

BILLING CODE 4510-26-P